DEPARTMENT OF TRANSPORTATION

Federal Aviation Administration

14 CFR Part 73

[Docket No. FAA-2019-0100; Airspace Docket No. 17-AWP-23]

RIN 2120-AA66

Proposed Establishment of Restricted Area R-7205; Guam, GU

AGENCY: Federal Aviation Administration (FAA), DOT.

ACTION: Notice of proposed rulemaking (NPRM).

SUMMARY: This action proposes to establish restricted area R-7205 on the island of Guam, GU. The US Army has been operating a Terminal High Altitude Area Defense (THAAD) radar system in direct support of national defense initiatives. The system has operated within a Temporary Flight Restriction (TFR) for over five years. The restricted area is necessary to protect aviation from hazardous electro-magnetic radiation and segregate non-participating aircraft.

DATES: Comments must be received on or before May 6, 2019.

ADDRESSES: Send comments on this proposal to the U.S. Department of Transportation, Docket Operations, 1200 New Jersey Avenue SE, West Building Ground Floor, Room W12-140, Washington, DC 20590-0001; telephone: 1 (800) 647-5527, or (202) 366-9826. You must identify FAA Docket Number FAA-2019-0100; Airspace Docket No. 17-AWP-23 at the beginning of your comments. You may also submit comments through the internet at http://www.regulations.gov.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code (U.S.C.). Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would establish restricted airspace at Guam, GU, to contain activities deemed hazardous to nonparticipating aircraft.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket Number FAA-2019-0100; Airspace Docket No. 17-AWP-23) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket Number FAA-2019-0100; Airspace Docket No. 17-AWP-23.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Background

In 2007, U.S. Pacific Command (PACOM) designated Commander, US Pacific Fleet as the executive agent of the development of the consolidated Department of Defense (DoD) Special Use Airspace (SUA) proposal for the United States Marine Corps (USMC) relocation to Guam. A DoD working group began active discussions with the FAA. Since November 2007, the working group and the FAA have coordinated on air traffic control issues, SUA proposal integration, and International Civil Aviation Organization (ICAO) rules. In an effort to reduce redundancies by the DoD while seeking SUA throughout the Commonwealth of the Northern Mariana Islands (CNMI) and Guam, PACOM submitted a consolidated DoD SUA Proposal.

The proposal was divided into four sub-phases outlining different airspace requirements. The fourth phase (Phase 4) consists of the creation of restricted airspace on the northern portion of Guam, to be designated as R-7205. The proposed restricted area R-7205 airspace is needed to encompass an electro-magnetic radiation hazard associated with the THAAD radar operations.

What is a THAAD System?

The THAAD system is a long-range, land-based air defense weapon system that provides terminal defense against ballistic missiles. This system is designed to intercept missiles during late mid-course or final stage flight. THAAD operates at high altitudes and provides broad area coverage against threats to critical assets such as population centers, industrial resources, and military forces. The system provides a broad range of surveillance services that perform target search, acquisition, identification, and tracking functions within the proposed restricted area. Intercept missiles at high altitudes will take place outside of the restricted area under military authority and authorization.

What are the hazards associated with the THAAD System?

During THAAD system operations, there is a potential hazard to military and civilian aircraft. The system emits electromagnetic radiation (EMR) that could cause adverse impacts to human health and electromagnetic interference with electronic aircraft equipment. The SUA is established to avoid injury and damage to personnel and equipment from EMR emitted from the THAAD system. THAAD normally operates in search/surveillance mode which limits the EMR to very short durations, less than 0.2 seconds, which would not result in adverse consequences. However, during tracking or calibration mode, the beam is steady and the duration of EMR exposure is greater. Calibration is performed on start-up and on regular intervals and tracking mode occurs when the unit is actively tracking a flying target such as a missile or a plane.

Why is the THAAD system in Guam?

In April 2013, the U.S. Secretary of Defense directed the U.S. Army to deploy a THAAD battery system immediately to Guam on an emergency basis in response to potential North Korean missile launch activity. Since the temporary deployment of the THAAD battery in 2013, the DoD validated the enduring requirement for a THAAD battery in Guam to ensure continued defense of the homeland against existing and emerging missile threats by potentially hostile states in the region, as mandated in Title 10 of the U.S.C., Armed Forces. The THAAD system provides long-term protection for Guam residents and the U.S. forces based there from potential ballistic missile attacks. Alternative locations were not considered because the purpose is to protect Guam, which requires the THAAD to be located in Guam.

The Proposal

The FAA is proposing an amendment to title 14 Code of Federal Regulations (14 CFR) part 73 to establish restricted area R-7205 Guam, GU. The FAA is proposing this action at the request of the USMC. The proposed restricted area is described below.

R-7205 would be established on the northern tip of Guam and northwest of Anderson Air Force Base (AFB) abutting the Anderson AFB Class D. The altitudes would be from 700 feet MSL to 19,000 feet MSL.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.72 Guam [Amended]

2. Section 73.72 is amended as follows:

* * * * *

R-7205 Guam, GU [New]

Boundaries. Beginning at lat. 13°37′10″ N, long. 144°51′58″ E; thence clockwise along the 2.4-mile radius of point in space coordinates at lat. 13°39′25″ N, long. 144°51′04″ E; to lat. 13°38′40″ N, long. 144°53′24″ E; thence counter-clockwise along the 4.3-mile radius of Andersen AFB Class D airspace; to the point of beginning, excluding that airspace within R-7202 when active.

Designated altitudes. 700 feet MSL to FL190.

Time of designation. Continuous.

Controlling Agency. FAA, Guam CERAP.

Using Agency. Commanding Officer, Task Force Talon, Andersen AFB, Guam.

* * * * *

Issued in Washington, DC, on March 6, 2019.
Scott M. Rosenbloom,
Acting Manager, Airspace Policy Group.

[FR Doc. 2019-04534 Filed 3-20-19; 8:45 am]

BILLING CODE 4910-13-P